DEPARTMENT OF ENERGY

Fusion Energy Sciences Advisory Committee

AGENCY: Office of Science, Department of Energy.

ACTION: Notice of open meeting.

SUMMARY: This notice announces a meeting of the Fusion Energy Sciences Advisory Committee (FESAC). The Federal Advisory Committee Act requires that public notice of these meetings be announced in the Federal Register.

DATES: Tuesday, June 23, 2020 11:00 a.m. to 5:30 p.m. EDT

Wednesday, June 24, 2020 11:00 a.m. to 1:30 p.m. EDT

Location: This meeting will be held digitally via webcast using Zoom. Instructions for Zoom, as well as any updates to meeting times or meeting agenda, can be found on the FESAC meeting website at: https://science.osti.gov/fes/fesac/Meetings.

FOR FURTHER INFORMATION CONTACT: Dr. Samuel J. Barish, Acting Designated Federal Officer, Office of Fusion Energy Sciences (FES); U.S. Department of Energy; Office of Science; 1000 Independence Avenue SW; Washington, DC 20585; Telephone: (301) 903-2917; Email address: sam.barish@science.doe.gov.

SUPPLEMENTARY INFORMATION: Purpose of the Board: The purpose of the Board is to provide advice on a continuing basis to the Director, Office of Science of the Department of Energy, on the many complex scientific and technical issues that arise in the development and implementation of the fusion energy sciences program.

Tentative Agenda Items:

• News from the Office of Science

• FES Perspective

• Update on the FESAC Subcommittee to Develop a Long-Range Plan for the FES Program

• 2020 NAS Report—Plasma Science: Enabling Technology, Sustainability, Security, and Exploration

• Diversity, Equity, and Inclusion Initiatives in the Office of Science

• Public Comment

• Adjourn

Public Participation: The meeting is open to the public. If you would like to file a written statement with the Committee, you may do so either before or after the meeting. If you would like to make an oral statement regarding any of the items on the agenda, you should contact Dr. Barish at sam.barish@science.doe.gov (Email). Reasonable provision will be made to include the scheduled oral statements during the Public Comment time on the agenda. The Chairperson of the Committee will conduct the meeting to facilitate the orderly conduct of business. Public comment will follow the 10-minute rule.

Minutes: The minutes of the meeting will be available for public review and copying within 30 days on the Fusion Energy Sciences Advisory Committee website— http://science.energy.gov/fes/fesac/.

Signed in Washington, DC, on May 27, 2020.
LaTanya Butler,
Deputy Committee Management Officer.

[FR Doc. 2020-11773 Filed 6-1-20; 8:45 am]

BILLING CODE 6450-01-P